DEPARTMENT OF THE INTERIOR

U.S. Geological Survey

[USGS-GX12RN000DSA200]

Agency Information Collection Activities: Comment Request

AGENCY: U.S. Geological Survey (USGS), Interior.

ACTION: Notice of an extension of an information collection (1028-0048).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This IC is scheduled to expire on March 31, 2012.

DATES: You must submit comments on or before February 6, 2012.

ADDRESSES: Please submit a copy of your comments to the Information Collections Clearance Officer, U.S. Geological Survey, 12201 Sunrise Valley Drive MS 807, Reston, VA 20192 (mail); (703) 648-7199 (fax); or smbaloch@usgs.gov (email). Use Information Collection Number 1028-0048 in the subject line.

FOR FURTHER INFORMATION CONTACT: To request additional information about this IC, contact Jim Dewey at (303) 274-8419.

SUPPLEMENTARY INFORMATION:

I. Abstract

The U.S. Geological Survey is required to collect, evaluate, publish and distribute publish information concerning earthquakes. Respondents will have an opportunity to voluntarily supply information concerning the effects of shaking from an earthquake—on themselves, buildings, other man-made structures, and ground effects such as faulting or landslides.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We will release data collected on these forms only in formats that do not include proprietary information volunteered by respondents.

II. Data

Title: USGS Earthquake Report.

OMB Control Number: 1028-0048.

Type of Request: Revision of a currently approved collection.

Affected Public: General Public.

Respondent Obligation: Voluntary.

Frequency of Collection: On occasion, after each earthquake.

Estimated Number and Description of Respondents: Approximately 300,000 individuals affected by an earthquake each year.

Estimated Number of Responses: 300,000.

Annual Burden Hours: 30,000 hours.

Estimated Annual Reporting and Recordkeeping “Hour” Burden: The previously approved “hour” burden for this collection is 10,000 hours. However, voluntary earthquake reports have increased in recent years as the public becomes aware of the opportunity to contribute their earthquake observations. We estimate the public reporting burden will average 6 minutes per response. This includes the time for reviewing instructions, and answering a web-based questionnaire.

Estimated Reporting and Recordkeeping “Non-Hour Cost” Burden: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

III. Request for Comments

We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. We will include or summarize each comment in our request to OMB to approve this IC. Before including your address, phone number, email address, or other personal identifying information in your comment, you should be aware that your entire comment, including your personal identifying information, may be made publicly available at any time. While you can ask OMB in your comment to withhold your personal identifying information from public review, we cannot guarantee that it will be done.

Dated: November 18, 2011.
Jill McCarthy,
Geologic Hazards Science Center, Chief Scientist.

[FR Doc. 2011-31307 Filed 12-5-11; 8:45 am]

BILLING CODE 4310-AM-P